FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at http://www.ffiec.gov/nic/.

Unless otherwise noted, comments regarding the applications must be received at the Reserve Bank indicated or the offices of the Board of Governors not later than February 28, 2007.

A. Federal Reserve Bank of Atlanta (Andre Anderson, Vice President) 1000 Peachtree Street, N.E., Atlanta, Georgia 30309:

1. Appalachian Bancshares, Inc., Ellijay, Georgia; to acquire Appalachian Community Bank, F.S.B., McCaysville, Georgia, and thereby engage in operating a savings association, pursuant to section 225.28(b)(4)(ii) of Regulation Y. Comments regarding this application must be received by March 9, 2007.

2. Coastal Community Investments, Inc., Panama City Beach, Florida; to acquire 100 percent of the voting shares of Bayside Financial Corporation, and thereby indirectly acquire Bayside Savings Bank, both of Port St. Joe, Florida, and engage in operating a savings association, pursuant to section 225.28(b)(4)(ii) of Regulation Y. Comments regarding this application must be received by March 9, 2007.

B. Federal Reserve Bank of Minneapolis (Jacqueline G. King, Community Affairs Officer) 90 Hennepin Avenue, Minneapolis, Minnesota 55480-0291:

1. State Bankshares Inc., Fargo, North Dakota; to acquire 100 percent of the voting shares of Passport Benefit Solutions, L.L.C., Minnetonka, Minnesota, and thereby engage in employee benefits consulting services and related data processing, pursuant to sections 225.28(b)(9)(ii) and 225.28(b)(14)(i) of Regulation Y.

Board of Governors of the Federal Reserve System, February 8, 2007.
Jennifer J. Johnson,
Secretary of the Board.

[FR Doc. E7-2444 Filed 2-12-07; 8:45 am]

BILLING CODE 6210-01-S